DEPARTMENT OF HEALTH AND HUMAN SERVICES

Centers for Disease Control and Prevention

[Docket No. CDC-2020-0060]

CDC/HRSA Advisory Committee on HIV, Viral Hepatitis and STD Prevention and Treatment (CHACHSPT) Meeting

AGENCY: Centers for Disease Control and Prevention (CDC), Department of Health and Human Services (HHS).

ACTION: Notice and request for comment.

SUMMARY: In accordance with the Federal Advisory Committee Act, the CDC and the Health Resources and Services Administration (HRSA), announces the following meeting of the CDC/HRSA Advisory Committee on HIV, Viral Hepatitis and STD Prevention and Treatment (CHACHSPT). This meeting is open to the public, limited only by audio and web conference lines available, by accessing the (information below). Time will be available for oral public comment. Persons who desire to make an oral statement, may request it at the time of the public comments period on July 21, 2020 at 3:45 p.m., EDT. Written comments received in advance of the meeting will be included in the official record of the meeting.

DATES: The meeting will be held on July 21, 2020, 2:00 p.m. to 4:00 p.m., EDT.

Written comments must be received on or before July 14, 2020.

ADDRESSES: You may submit comments, identified by Docket No. CDC-2020-0060 by any of the following methods. CDC does not accept; comments by email.

• Federal eRulemaking Portal: https://www.reulations.gov. Follow the instructions for submitting comments.

• Mail: Staci Morris, Centers for Disease Control and Prevention, 1600 Clifton Road NE, MS E-07, Atlanta, Georgia 30329-4027, Attn: CHACHSPT Meeting.

Instructions: All submissions received must include the Agency name and Docket number [CDC-2020-0060]. All relevant comments received in conformance with the https://www.regulations.gov suitability policy will be posted without change to https://www.regulations.gov, including any personal information provided. For access to the docket to read background documents or comments received, go to https://www.regulations.gov. Written comments received in advance of the meeting will be included in the official record of the meeting.

Meeting information: The teleconference access is 1-877-603-4228, and the passcode is 42598858. The web conference access is https://adobeconnect.cdc.gov/chac/.

FOR FURTHER INFORMATION CONTACT: Staci Morris, Public Health Advisor, CDC, 1600 Clifton Road NE, Mailstop E0-7, Atlanta, Georgia 30329-4027, Telephone (404) 718-7479, Email SMorris4@cdc.gov.

SUPPLEMENTARY INFORMATION: Purpose: This committee is charged with advising the Director, CDC and the Administrator, HRSA, regarding activities related to prevention and control of HIV/AIDS, Viral Hepatitis and other STDs, the support of health care services to persons living with HIV/AIDS, and education of health professionals and the public about HIV/AIDS, Viral Hepatitis and other STDs.

Public Participation

Written Public Comment: The public is welcome to submit written comments in advance of the meeting. Comments should be submitted in writing by mail according to the instructions provided. The deadline for receipt of written public comment is July 14, 2020. All requests must contain the name, address, and organizational affiliation of the speaker, as well as the topic being addressed. Written comments received in advance of the meeting will be included in the official record of the meeting. Please note that comments received, including attachments and other supporting materials, are part of the public record and are subject to public disclosure.

Matters To Be Considered: The agenda will include updates on recent HRSA and CDC activities involving HIV, STD, and viral hepatitis prevention and treatment and related COVID-19 response activities, as well as discussions on issues related to youth and the President's Initiative on “Ending the HIV Epidemic: A Plan for America.” Agenda items are subject to change as priorities dictate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-11496 Filed 5-28-20; 8:45 am]

BILLING CODE 4163-18-P